SMALL BUSINESS ADMINISTRATION

13 CFR Part 140

Debt Collection

CFR Correction

In Title 13 of the Code of Federal Regulations, revised as of January 1, 2015, on page 665, in § 140.11, in paragraph (i)(3)(ii), remove the term “the SBA” and add “the Agency” in its place.

[FR Doc. 2015-31745 Filed 12-17-15; 8:45 am]

BILLING CODE 1505-01-D